DEPARTMENT OF THE INTERIOR

National Park Service

[NPS-WASO-D-COS-POL-35730; PPWODIREP0; PPMPSAS1Y.000000; PX.XDIRE0039]

Notice of Public Meeting for the Advisory Committee on Reconciliation in Place Names

AGENCY: National Park Service, Interior.

ACTION: Meeting notice.

SUMMARY: In accordance with the Federal Advisory Committee Act of 1972, the National Park Service (NPS) is hereby giving notice that the Advisory Committee on Reconciliation in Place Names (Committee) will meet as noted below.

DATES: The Committee will hold public meetings on Wednesday June 14, 2023, from 8:00 a.m. until 5:00 p.m. (MOUNTAIN) and Thursday June 15, 2023, from 8:00 a.m. until 12:00 p.m. (MOUNTAIN). Individuals that wish to participate must contact the person listed in the FOR FURTHER INFORMATION CONTACT section no later than June 7, 2023, to receive instructions for accessing the meeting.

ADDRESSES: The Committee will meet at the Horace M. Albright Training Center, 1 Albright Avenue, Grand Canyon, Arizona 86023. Electronic submissions of materials or requests are to be sent to reconciliation_committee@nps.gov. The meeting will also be accessible virtually via webinar and audio conference technology.

FOR FURTHER INFORMATION CONTACT: For information concerning attending the Committee meeting in-person or virtually, submitting written comments to the Committee, or requesting to address the Committee, contact Andrea DeKoter, Committee Manager for the Advisory Committee on Reconciliation in Place Names, Office of Policy, National Park Service, at reconciliation_committee@nps.gov or by telephone at (202) 354-2220.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Committee has been established by authority of the Secretary of the Interior (Secretary) under 54 U.S.C. 100906 and is regulated by the Federal Advisory Committee Act.

Purpose of the Meeting: The Committee will receive briefings and discuss topics related to identifying existing Federal land unit names and geographic feature names that may be considered derogatory and developing recommendations for potential replacement names. The final agenda and briefing materials will be posted to the Committee's website prior to the meeting at https://www.nps.gov/orgs/1892/advisory-committee-on-reconciliation-in-place-names.htm.

The meeting is open to the public. Interested persons may choose to make oral comments at the meeting during the designated time for this purpose. Depending on the number of people wishing to comment and the time available, the amount of time for oral comments may be limited. Interested parties should contact the Committee Manager (see FOR FURTHER INFORMATION CONTACT) for advance placement on the public speaker list for this meeting. Members of the public may also choose to submit written comments by emailing them to reconciliation_committee@nps.gov. Due to time constraints during the meeting, the Committee is not able to read written public comments submitted into the record. All comments will be made part of the public record and will be electronically distributed to all Committee members. Detailed minutes of the meeting will be available for public inspection within 90 days of the meeting.

Meeting Accessibility

Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 5 U.S.C. ch. 10.

Alma Ripps,
Chief, Office of Policy.

[FR Doc. 2023-10636 Filed 5-17-23; 8:45 am]

BILLING CODE 4312-52-P